SMALL BUSINESS ADMINISTRATION

[Disaster Declaration #17964 and #17965; GUAM Disaster Number GU-00010]

Presidential Declaration of a Major Disaster for Public Assistance Only for the Territory of Guam

AGENCY: U.S. Small Business Administration.

ACTION: Notice.

SUMMARY: This is a notice of the Presidential declaration of a major disaster for public assistance only for the Territory of Guam (FEMA-4715-DR), dated 06/09/2023.

Incident: Typhoon Mawar.

Incident Period: 05/22/2023 through 05/29/2023.

DATES: Issued on 06/09/2023.

Physical Loan Application Deadline Date: 08/08/2023.

Economic Injury (EIDL) Loan Application Deadline Date: 03/11/2024.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: Notice is hereby given that as a result of the President's major disaster declaration on 06/09/2023, Private Non-Profit organizations that provide essential services of a governmental nature may file disaster loan applications at the address listed above or other locally announced locations.

The following areas have been determined to be adversely affected by the disaster:

Primary Counties: Guam.

The Interest Rates are:

| Percent
For Physical Damage:
Non-Profit Organizations with Credit Available Elsewhere | 2.375
Non-Profit Organizations without Credit Available Elsewhere | 2.375
For Economic Injury:
Non-Profit Organizations without Credit Available Elsewhere | 2.375

The number assigned to this disaster for physical damage is 17964 8 and for economic injury is 17965 0.

(Catalog of Federal Domestic Assistance Number 59008)

Francisco Sánchez, Jr.,
Associate Administrator, Office of Disaster Recovery & Resilience.

[FR Doc. 2023-12919 Filed 6-15-23; 8:45 am]

BILLING CODE 8026-09-P